DEPARTMENT OF ENERGY

Federal Energy Regulatory Commission

[Docket No. CP03-32-000]

Northwest Pipeline Corporation; Notice of Availability of the Environmental Assessment for the Proposed White River Replacement Project

May 20, 2003.

The staff of the Federal Energy Regulatory Commission (FERC or Commission) has prepared an environmental assessment (EA) on the natural gas pipeline facilities by Northwest Pipeline Corporation (Northwest) in the above-referenced docket.

The EA was prepared to satisfy the requirements of the National Environmental Policy Act. The staff concludes that approval of the proposed project, with appropriate mitigating measures, would not constitute a major Federal action significantly affecting the quality of the human environment.

The EA assesses the potential environmental effects of:

• Abandonment by removal of approximately 2,100 feet of parallel 26-inch- and 30-inch-diameter pipelines.

• Abandonment in place of approximately 1,100 feet of parallel 26-inch- and 30-inch-diameter pipelines.

• Retention of approximately 1,100 feet of parallel 26-inch- and 30-inch-diameter pipelines for continued service to the Enumclaw Meter Station.

• Removal of a temporary riprap stabilization structure, 380 feet of sheet piling from the south floodplain, and a 665-foot-long previously abandoned 26-inch-diameter pipeline from the White River channel.

• Installation of 1,500 to 1,540 feet of 26-inch- and 30-inch-diameter replacement pipelines in the south floodplain using conventional construction.

• Installation of approximately 3,200 feet of 26-inch- and 30-inch-diameter replacement pipelines with 2 parallel HDDs traversing underneath the floodplain and White River channel, the slope north of the White River, State Route 164, and Cameron Park.

• Installation of 300 to 340 feet of 26-inch- and 30-inch-diameter replacement pipelines north of Cameron Park using conventional construction.

The purpose of the proposed project is to provide a more permanent solution for improved pipeline safety and reliability while restoring the natural environment of the White River and its floodplain at this crossing. Recent highwater events have increased the risk of exposure to the 26-inch- and 30-inch-diameter pipelines underneath the White River and along its south and north banks. Northwest installed a temporary riprap stabilization structure on the north riverbank in 1996 to protect its existing pipelines.

The EA has been placed in the public files of the FERC. A limited number of copies of the EA are available for distribution and public inspection at:

Federal Energy Regulatory Commission, Public Reference and Files Maintenance Branch, 888 First Street, NE., Room 2A, Washington, DC 20426, (202) 208-1371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send two copies of your comments to:

Secretary, Federal Energy Regulatory Commission, 888 First St., NE., Room 1A, Washington, DC 20426;

• Label one copy of the comments for the attention of the Gas Branch 2, PJ11.2.

• Reference Docket No. CP03-032-000; and

• Mail your comments so that they will be received in Washington, DC on or before June 18, 2003.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

Comments will be considered by the Commission but will not serve to make the commentor a party to the proceeding. Any person seeking to become a party to the proceeding must file a motion to intervene pursuant to Rule 214 of the Commission's Rules of Practice and Procedures (18 CFR 385.214). ¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance with FERRIS, the FERRIS helpline can be reached at 1-866-208-3676, TTY (202) 502-8659 or at FERCOnlineSupport@ferc.gov. The FERRIS link on the FERC Internet Web site also provides access to the texts of formal documents issued by the Commission, such as orders, notices, and rulemakings.

In addition, the Commission now offers a free service called eSubscription which allows you too keep track of all formal issuances and submittals in specific dockets. This can reduce the amount of time you spend researching proceedings by automatically providing you with notification of these filings, document summaries and direct links to the documents. Go to http://www.ferc.gov/esubscribenow.htm.

Magalie R. Salas,
Secretary.

[FR Doc. 03-13207 Filed 5-27-03; 8:45 am]

BILLING CODE 6717-01-P